DEPARTMENT OF LABOR

Employment and Training Administration

[TA-W-52,545]

Bose Corporation, Park Place Manufacturing Plant, Framingham, Massachusetts; Amended Certification Regarding Eligibility To Apply for Worker Adjustment Assistance

In accordance with Section 223 of the Trade Act of 1974 (19 U.S.C. 2273) the Department of Labor issued a Certification of Eligibility to Apply for Worker Adjustment Assistance on September 22, 2003, applicable to all workers of Bose Corporation, Framingham, Massachusetts. The notice will soon be published in the Federal Register.

At the request of the State Agency, the Department reviewed the certification for workers of the subject firm. The Department's review of the certification and new information obtained from a company official show that the worker group covered by the shift in production of home entertainment products to Mexico should have been limited to workers at the Park Place Manufacturing plant. Workers producing home entertainment products at the Park Place Manufacturing plant are separately identifiable from workers producing other products at Bose Corporation, Framingham, Massachusetts.

Accordingly, the Department is amending the certification to limit the certification to the workers of Bose Corporation, Park Place Manufacturing Plant in Framingham, Massachusetts.

The amended notice applicable to TA-W-52,545 is hereby issued as follows:

Workers of Bose Corporation, Park Place Manufacturing Plant, Framingham, Massachusetts, who became totally or partially separated from employment on or after July 25, 2002 through September 22, 2005, are eligible to apply for adjustment assistance under Section 223 of the Trade Act of 1974.”

Signed at Washington, DC, this 3rd day of November 2003.
Linda G. Poole,
Certifying Officer, Division of Trade Adjustment Assistance.

[FR Doc. 03-29684 Filed 11-26-03; 8:45 am]

BILLING CODE 4510-30-P